DEPARTMENT OF ENERGY

Federal Energy Regulatory Commission

[Project No. 13630-001]

Lewis County Development Corporation; Notice of Preliminary Permit Application Accepted for Filing and Soliciting Comments, Motions To Intervene, and Competing Applications

On May 2, 2013, the Lewis County Development Corporation (Lewis County Corp), filed an application for a successive preliminary permit, pursuant to section 4(f) of the Federal Power Act (FPA), proposing to study the feasibility of the Croghan Dam Hydroelectric Project (project) to be located at the existing Croghan Dam, on the Beaver River, in Lewis County, New York. The sole purpose of a preliminary permit, if issued, is to grant the permit holder priority to file a license application during the permit term. A preliminary permit does not authorize the permit holder to perform any land-disturbing activities or otherwise enter upon lands or waters owned by others without the owners' express permission.

The proposed project would consist of: (1) An existing concrete gravity dam structure consisting of an 11.5-foot-high by 120-foot-long section, and a 9.5-foot-high by 103-foot-long section; (2) an existing impoundment with a normal water surface elevation of 818 feet mean sea level extending 2.7 miles upstream; (3) a new 75-foot-long by 35-foot-wide powerhouse; (4) a new turbine generator unit with a total installed capacity of 500 kilowatts; (5) a new 13.2-kilovolt transmission line interconnecting with the National Grid; and (6) appurtenant facilities. The proposed project would operate in run-of-river mode and generate an estimated average annual generation of 1,387 megawatt-hours.

Applicant Contact: Larry Dolhof, Lewis County Development Corporation, P.O. Box 308, Lyons Falls, NY 13368, (315) 348-4066.

FERC Contact: Timothy Looney, (202) 502-6096.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of the Commission's Web site at http://www.ferc.gov/docs-filing/elibrary.asp. Enter the docket number (P-13630) in the docket number field to access the document. For assistance, contact FERC Online Support.

Dated: May 22, 2013.
Kimberly D. Bose,
Secretary.

[FR Doc. 2013-12787 Filed 5-29-13; 8:45 am]

BILLING CODE 6717-01-P